NUCLEAR REGULATORY COMMISSION

[NRC-2020-0103]

Biweekly Notice; Applications and Amendments to Facility Operating Licenses and Combined Licenses Involving No Significant Hazards Considerations

AGENCY: Nuclear Regulatory Commission.

ACTION: Biweekly notice.

SUMMARY: Pursuant to section 189.a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person. This biweekly notice includes all amendments issued, or proposed to be issued, from approximately April 7, 2020, to April 20, 2020. The last biweekly notice was published on April 21, 2020.

DATES: Comments must be filed by June 4, 2020. A request for a hearing or petitions for leave to intervene must be filed by July 6, 2020.

ADDRESSES: You may submit comments by any of the following methods:

• Federal Rulemaking Website: Go to https://www.regulations.gov and search for Docket ID NRC-2020-0103. Address questions about NRC Docket IDs in Regulations.gov to Jennifer Borges; telephone: 301-287-9127; email: Jennifer.Borges@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Bernadette Abeywickrama, Office of Nuclear Reactor Regulation, telephone: 301-415-4081, email: Bernadette.Abeywickrama@nrc.gov, U.S. Nuclear Regulatory Commission, Washington DC 20555-0001.

SUPPLEMENTARY INFORMATION:

I. Obtaining Information and Submitting Comments

A. Obtaining Information

Please refer to Docket ID NRC-2020-0103, facility name, unit number(s), docket number(s), application date, and subject when contacting the NRC about the availability of information for this action. You may obtain publicly-available information related to this action by any of the following methods:

• Federal Rulemaking website: Go to https://www.regulations.gov and search for Docket ID NRC-2020-0103.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2020-0103, facility name, unit number(s), docket number(s), application date, and subject in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensee's analyses provided, consistent with title 10 of the Code of Federal Regulations (10 CFR) section 50.91 is sufficient to support the proposed determination that these amendment requests involve NSHC. Under the Commission's regulations in 10 CFR 50.92, operation of the facility in accordance with the proposed amendment would not (1) involve a significant increase in the probability or consequences of an accident previously evaluated; or (2) create the possibility of a new or different kind of accident from any accident previously evaluated; or (3) involve a significant reduction in a margin of safety.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves NSHC. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final NSHC determination, any hearing will take place after issuance. The Commission expects that the need to take action on an amendment before 60 days have elapsed will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The table below provides the plant name, docket number, date of application, ADAMS accession number, and location in the application of the licensee's proposed NSHC determination. For further details with respect to these license amendment applications, see the application for amendment which is available for public inspection in ADAMS and at the NRC's PDR. For additional direction on accessing information related to this document, see the “Obtaining Information and Submitting Comments” section of this document.

Entergy Nuclear Operations, Inc., Entergy Nuclear Indian Point 3, LLC; Indian Point Nuclear Generating Station, Unit No. 3; Westchester County, NY
Application Date | March 24, 2020.
ADAMS Accession No. | ML20084U773.
Location in Application of NSHC | Pages 13 and 14 of the Enclosure.
Brief Description of Amendments | The proposed amendment would incorporate into the Indian Point Unit 3 (IP3) licensing basis the installation and use of a new single failure proof auxiliary lifting device (i.e., the Holtec International HI-LIFT) to handle a dry cask storage transfer cask in the IP3 fuel storage building. The change to the IP3 licensing basis would be documented via revision to the IP3 Updated Final Safety Analysis Report.
Proposed Determination | NSHC.
Name of Attorney for Licensee, Mailing Address | Bill Glew, Associate General Counsel, Entergy Services, Inc., 639 Loyola Avenue, 22nd Floor, New Orleans, LA 70113.
Docket Nos. | 50-286.
NRC Project Manager, Telephone Number | Richard Guzman, 301-415-1030.
Entergy Operations, Inc., System Energy Resources, Inc., Cooperative Energy, A Mississippi Electric Cooperative, and Entergy Mississippi, LLC; Grand Gulf Nuclear Station, Unit 1; Claiborne County, MS, Entergy Louisiana, LLC and Entergy Operations, Inc.; River Bend Station, Unit 1; West Feliciana Parish, LA
Application Date | January 24, 2020.
ADAMS Accession No. | ML20024E597.
Location in Application of NSHC | Pages 6 and 7 of the Enclosure.
Brief Description of Amendments | The proposed amendments would adopt Technical Specifications Task Force (TSTF) Traveler TSTF-439, “Eliminate Second Completion Times Limiting Time from Discovery of Failure to Meet an LCO [Limiting Condition for Operation],” Revision 2, dated June 20, 2005 (ADAMS Accession No. ML051860296), into the Technical Specifications for Grand Gulf Nuclear Station, Unit 1 and River Bend Station, Unit 1.
Proposed Determination | NSHC.
Name of Attorney for Licensee, Mailing Address | Anna Vinson Jones, Senior Counsel, Entergy Services, Inc., 101 Constitution Avenue NW, Suite 200 East, Washington, DC 20001.
Docket Nos. | 50-416, 50-458.
NRC Project Manager, Telephone Number | Siva Lingam, 301-415-1564.
Entergy Operations, Inc., System Energy Resources, Inc., Cooperative Energy, A Mississippi Electric Cooperative, and Entergy Mississippi, LLC; Grand Gulf Nuclear Station, Unit 1; Claiborne County, MS, Entergy Louisiana, LLC and Entergy Operations, Inc.; River Bend Station, Unit 1; West Feliciana Parish, LA
Application Date | January 24, 2020.
ADAMS Accession No. | ML20024F216.
Location in Application of NSHC | Pages 1 and 2 of the Enclosure.
Brief Description of Amendments | The proposed amendments would adopt Technical Specifications Task Force (TSTF) traveler TSTF-566, Revision 0, “Revise Actions for Inoperable RHR [Residual Heat Removal] Shutdown Cooling Subsystems,” dated January 19, 2018 (ADAMS Accession No. ML18019B187), which is an approved change to the Improved Standard Technical Specifications, into the Grand Gulf Nuclear Station, Unit 1 and River Bend Station, Unit 1 Technical Specifications. The model safety evaluation was approved by the NRC in a letter dated February 21, 2019 (ADAMS Accession No. ML19028A285), using the consolidated line item improvement process.
Proposed Determination | NSHC.
Name of Attorney for Licensee, Mailing Address | Anna Vinson Jones, Senior Counsel, Entergy Services, Inc., 101 Constitution Avenue NW, Suite 200 East, Washington, DC 20001.
Docket Nos. | 50-416, 50-458.
NRC Project Manager, Telephone Number | Siva Lingam, 301-415-1564.
Exelon Generation Company, LLC; Braidwood Station, Units 1 and 2, Will County, IL; Byron Station, Unit Nos. 1 and 2, Ogle County, IL, Exelon Generation Company, LLC; R. E. Ginna Nuclear Power Plant, Wayne County, NY
Application Date | February 6, 2020.
ADAMS Accession No. | ML20037A725.
Location in Application of NSHC | Pages 2, 3, and 4 of Attachment 1 to the Application.
Brief Description of Amendments | The amendments adopt TSTF-567, “Add Containment Sump TS to Address GSl-191 Issues,” which adds a technical specification action to address the condition of the containment sump made inoperable due to containment accident generated and transported debris exceeding the analyzed limits. The action provides time to correct or evaluate the condition in lieu of an immediate plant shutdown.
Proposed Determination | NSHC.
Name of Attorney for Licensee, Mailing Address | Tamra Domeyer, Associate General Counsel, Exelon Generation Company, LLC, 4300 Winfield Road, Warrenville, IL 60555.
Docket Nos. | 50-244, 50-454, 50-455, 50-456, 50-457.
NRC Project Manager, Telephone Number | Joel Wiebe, 301-415-6606.
R. E. Ginna Nuclear Power Plant, LLC and Exelon Generation Company, LLC; R. E. Ginna Nuclear Power Plant; Wayne County, NY
Application Date | March 25, 2020.
ADAMS Accession No. | ML20085H900.
Location in Application of NSHC | Pages 85 and 86 of Attachment 1.
Brief Description of Amendments | The proposed amendment would revise Technical Specification (TS) 3.3.1, “Reactor Trip System (RTS) Instrumentation,” and TS 3.3.2, “Engineered Safety Feature Actuation System (ESFAS) Instrumentation.” These changes are based on Westinghouse topical reports WCAP-14333, Revision 1, “Probabilistic Risk Analysis of the RPS [Reactor Protection System] and ESFAS Test Times and Completion Times,” and WCAP-15376, Revision 1, “Risk-Informed Assessment of the RTS and ESFAS Surveillance Test Intervals and Reactor Trip Breaker Test and Completion Times.”
Proposed Determination | NSHC.
Name of Attorney for Licensee, Mailing Address | Tamra Domeyer, Associate General Counsel, Exelon Generation Company, LLC, 4300 Winfield Road, Warrenville, IL 60555.
Docket Nos. | 50-244.
NRC Project Manager, Telephone Number | V. Sreenivas, 301-415-2597.
Susquehanna Nuclear, LLC and Allegheny Electric Cooperative, Inc.; Susquehanna Steam Electric Station, Units 1 and 2; Luzerne County, PA
Application Date | January 2, 2020.
ADAMS Accession No. | ML20002B254.
Location in Application of NSHC | Pages 16 and 17 of Enclosure 1.
Brief Description of Amendments | The proposed amendment would modify Technical Specification 5.5.2, “Primary Coolant Sources Outside Containment.” The amendment would modify the current licensing basis for the design-basis accident (DBA) loss-of-coolant accident (LOCA) analysis described in the Susquehanna Final Safety Analysis Report. The proposed changes would utilize an updated version of the ORIGEN code, introduce a new source term to account for the introduction of ATRIUM 11 fuel, use new assumptions that decrease the assumed emergency safety feature leakage into secondary containment, increase the assumed maximum allowable standby gas treatment system exhaust flow rate from secondary containment, and increase the allowed control structure unfiltered in-leakage that is assumed in the DBA LOCA dose analysis.
Proposed Determination | NHSC.
Name of Attorney for Licensee, Mailing Address | Damon D. Obie, Esq, 835 Hamilton St., Suite 150, Allentown, PA 18101.
Docket Nos. | 50-388, 50-387.
NRC Project Manager, Telephone Number | Sujata Goetz, 301-415-8004.
Tennessee Valley Authority; Sequoyah Nuclear Plant, Units 1 and 2; Hamilton County, TN
Application Date | March 13, 2020.
ADAMS Accession No. | ML20073P120.
Location in Application of NSHC | Pages 14, 15 and 16 of the Enclosure to the Application.
Brief Description of Amendments | Modify technical specifications to update the turbine low oil pressure setpoints.
Proposed Determination | NSHC.
Name of Attorney for Licensee, Mailing Address | Sherry Quirk, Executive VP and General Counsel, Tennessee Valley Authority, 400 West Summit Hill Drive, WT 6A, Knoxville, TN 37902.
Docket Nos. | 50-327, 50-328.
NRC Project Manager, Telephone Number | Perry Buckberg, 301-415-1383.
Tennessee Valley Authority; Watts Bar Nuclear Plant, Units 1 and 2; Rhea County, TN
Application Date | April 3, 2020.
ADAMS Accession No. | ML20097D315.
Location in Application of NSHC | Pages 4 and 5 of Enclosure.
Brief Description of Amendments | The proposed amendments would adopt Technical Specification Task Force (TSFT) Traveler 541, “Add Exceptions to Surveillance Requirements for Valves and Dampers Locked in the Actuated Position,” which would add exceptions to certain surveillance requirements (SR) to consider the SR met when automatic valves or dampers are locked, sealed, or otherwise secured in the actuated position.
Proposed Determination | NSHC.
Name of Attorney for Licensee, Mailing Address | Sherry Quirk, Executive VP and General Counsel, Tennessee Valley Authority, 400 West Summit Hill Drive, WT 6A, Knoxville, TN 37902.
Docket Nos. | 50-390, 50-391.
NRC Project Manager, Telephone Number | Kimberly Green, 301-415-1627.
Union Electric Company; Callaway Plant, Unit No. 1; Callaway County, MO
Application Date | March 10, 2020.
ADAMS Accession No. | ML20070R105.
Location in Application of NSHC | Page 7 of the Enclosure.
Brief Description of Amendments | The proposed amendment would revise Technical Specification (TS) 5.3.1 and delete TSs 5.3.1.1 and 5.3.2 in TS 5.3, “Unit Staff Qualifications,” of the Administrative Controls section in order to remove details specified for the qualifications of certain positions within the unit's staff because such details are already and appropriately specified in the Operating Quality Assurance Manual.
Proposed Determination | NSHC.
Name of Attorney for Licensee, Mailing Address | Jay E. Silberg, Pillsbury Winthrop Shaw Pittman LLP, 1200 17th St. NW, Washington, DC 20036.
Docket Nos. | 50-483.
NRC Project Manager, Telephone Number | L. John Klos, 301-415-5136.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action, see (1) the application for amendment; (2) the amendment; and (3) the Commission's related letter, Safety Evaluation, and/or Environmental Assessment as indicated. All of these items can be accessed as described in the “Obtaining Information and Submitting Comments” section of this document.

Entergy Nuclear Operations, Inc., Entergy Nuclear Indian Point 2, LLC, and Entergy Nuclear Indian Point, LLC; Indian Point Nuclear Generating Station, Unit Nos. 2 and 3; Westchester County, NY
Date Issued | April 10, 2020.
ADAMS Accession No. | ML20071Q717.
Amendment Nos. | 292 (Unit 2) and 267 (Unit 3).
Brief Description of Amendments | The amendments revised certain organization, staffing, and training requirements contained in Technical Specification (TS) Section 1.1, “Definitions”; Section 4.0, “Design Features”; and Section 5.0, “Administrative Controls,” of the Indian Point Units 2 and 3 TSs that will not be applicable to a permanently defueled facility once Indian Point, Unit 2, and subsequently, Indian Point, Unit 3, are permanently defueled.
Docket Nos. | 50-247, 50-286.
Entergy Nuclear Operations, Inc.; Indian Point Nuclear Generating Station, Unit No. 1; Westchester County, NY, Entergy Nuclear Operations, Inc., Entergy Nuclear Indian Point 2, LLC, and Entergy Nuclear Indian Point, LLC; Indian Point Nuclear Generating Station, Unit Nos. 2 and 3; Westchester County, NY
Date Issued | April 15, 2020.
ADAMS Accession No. | ML20078L140.
Amendment Nos. | 62 (Unit 1), 293 (Unit 2), and 268 (Unit 3).
Brief Description of Amendments | The amendments revised the on-shift staffing and the emergency response organization in the site emergency plan for the post-shutdown and permanently defueled condition.
Docket Nos. | 50-003, 50-247, 50-286.
Entergy Operations, Inc.; Arkansas Nuclear One, Unit 2; Pope County, AR
Date Issued | April 8, 2020.
ADAMS Accession No. | ML20087L803.
Amendment Nos. | 320.
Brief Description of Amendments | The amendment increased both the individual and average control element assembly drop time limits in the Arkansas Nuclear One, Unit 2 technical specifications by 0.2 seconds to establish margin impacted by installation of new high temperature upper gripper coils associated with the control element drive mechanism for each control element assembly.
Docket Nos. | 50-368.
Florida Power & Light Company; Turkey Point Nuclear Generating Unit Nos. 3. and 4; Miami-Dade County, FL
Date Issued | April 20, 2020.
ADAMS Accession No. | ML20029E948.
Amendment Nos. | 292 (Unit 3) and 285 (Unit 4).
Brief Description of Amendments | The amendments revised the technical specifications related to reactor trip system instrumentation and resolved two non-conservative technical specifications.
Docket Nos. | 50-250, 50-251.

IV. Notice of Issuance of Amendments to Facility Operating Licenses and Combined Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR chapter I, which are set forth in the license amendment.

Because of exigent or emergency circumstances associated with the date the amendment was needed, there was not time for the Commission to publish, for public comment before issuance, its usual notice of consideration of issuance of amendment, proposed NSHC determination, and opportunity for a hearing.

For exigent circumstances, the Commission has either issued a Federal Register notice providing opportunity for public comment or has used local media to provide notice to the public in the area surrounding a licensee's facility of the licensee's application and of the Commission's proposed determination of NSHC. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its NSHC determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that NSHC is involved.

The Commission has applied the standards of 10 CFR 50.92 and has made a final determination that the amendment involves NSHC. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License or Combined License, as applicable, and (3) the Commission's related letter, Safety Evaluation and/or Environmental Assessment, as indicated. All of these items can be accessed as described in the “Obtaining Information and Submitting Comments” section of this document.

Entergy Operations, Inc., System Energy Resources, Inc., Cooperative Energy, A Mississippi Electric Cooperative, and Entergy Mississippi, LLC; Grand Gulf Nuclear Station, Unit 1; Claiborne County, MS
Date of Amendment | April 15, 2020.
Brief Description of Amendment | The amendment allowed a one cycle extension to the Grand Gulf Nuclear Station, Unit 1 integrated leak rate test, or Type A test, and the drywell bypass leak rate test from the currently ongoing End of Cycle 22 refueling outage to the next End of Cycle 23 refueling outage. These tests are required by Technical Specification (TS) 5.5.12, “10 CFR 50, Appendix J, Testing Program,” for the integrated leak rate test, and Surveillance Requirement 3.6.5.1.1 of TS 3.6, “Containment Systems,” for the drywell bypass leak rate test.
ADAMS Accession No. | ML20101G054.
Amendment Nos. | 224.
Public Comments Requested as to Proposed NSHC (Yes/No) | Yes.
Docket Nos. | 50-416.
Exelon Generation Company, LLC; Limerick Generating Station, Unit 1; Montgomery County, PA
Date of Amendment | April 9, 2020.
Brief Description of Amendment | This amendment revised Technical Specification 3/4.6.1, “Primary Containment,” Limiting Condition for Operation 3.6.1.2, to allow for a one-time increase in the allowable leakage rate limit for one main steam isolation valve. The one-time increase is valid during operating cycle 19.
ADAMS Accession No. | ML20098C922.
Amendment Nos. | 245.
Public Comments Requested as to Proposed NSHC (Yes/No) | NSHC.
Docket Nos. | 50-352.
Exelon Generation Company, LLC; Quad Cities Nuclear Power Station, Unit 2; Rock Island County, IL
Date of Amendment | April 9, 2020.
Brief Description of Amendment | The amendment modified the Quad Cities Nuclear Power Station, Unit 2, Technical Specification 3.6.1.3, Surveillance Requirement 3.6.1.3.10 by revising the combined main steam isolation valve (MSIV) leakage rate limit for all four steam lines from 86 to 93 standard cubic feet per hour (scfh) and the leakage rate through each MSIV leakage path from 34 to 37 scfh. The proposed change in the allowable limits are a one-time change intended to be used for a single cycle (Cycle 26).
ADAMS Accession No. | ML20094F833.
Amendment Nos. | 276.
Public Comments Requested as to Proposed NSHC (Yes/No) | No.
Docket Nos. | 50-265.
Florida Power & Light Company; Turkey Point Nuclear Generating Unit No. 3; Miami-Dade County, FL.
Date of Amendment | April 16, 2020.
Brief Description of Amendment | The amendment revised the Turkey Point Unit 3 Technical Specifications to allow a one-time extension to the requirement to inspect each steam generator every other refueling outage to the fall of 2021, when the next Unit 3 refueling outage is scheduled.
ADAMS Accession No. | ML20104B527.
Amendment Nos. | 291.
Public Comments Requested as to Proposed NSHC (Yes/No) | NSHC.
Docket Nos. | 50-250.
Vistra Operations Company LLC; Comanche Peak Nuclear Power Plant, Unit Nos. 1 and 2; Somervell County, TX
Date of Amendment | April 17, 2020.
Brief Description of Amendment | The amendments revised Comanche Peak Nuclear Power Plant, Units 1 and 2, Technical Specification 5.5.9, “Unit 1 Model D76 and Unit 2 Model D5 Steam Generator (SG) Program,” to allow a one-time change in the Comanche Peak Unit 2 SG inspection frequency. The change allowed the licensee to defer the Unit 2 SG inspections for the spring 2020 refueling outage to the fall 2021 refueling outage.
ADAMS Accession No. | ML20108E878.
Amendment Nos. | 173 (Unit 1) and 173 (Unit 2).
Public Comments Requested as to Proposed NSHC (Yes/No) | NSHC.
Docket Nos | 50-445, 50-446.

For details, including the applicable notice period, see the individual notice in the Federal Register on the day and page cited.

Dated: April 23, 2020.
For the Nuclear Regulatory Commission.
Mohamed K. Shams,
Deputy Director, Division of Operating Reactor Licensing, Office of Nuclear Reactor Regulation.

[FR Doc. 2020-09046 Filed 5-4-20; 8:45 am]

BILLING CODE 7590-01-P